POSTAL SERVICE

Privacy Act of 1974; System of Records

AGENCY: Postal Service™.

ACTION: Notice of modification to existing system of records.

SUMMARY: The United States Postal Service® is proposing to modify a Customer Privacy Act System of Records. These modifications reflect the needs of two new Postal Service programs to assist customers with package and mail tracking. Also, there is an update to the current system manager's title.

DATES: The revision will become effective without further notice on September 4, 2012 unless comments received on or before that date result in a contrary determination.

ADDRESSES: Comments may be mailed or delivered to the Records Office, United States Postal Service, 475 L'Enfant Plaza SW., Room 9431, Washington, DC 20260-2201. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service™ has reviewed this system of records and has determined that this Customer Privacy Act System of Records should be revised to modify Categories of Records in the System, Purpose(s), Retrievability, Retention and Disposal, and the System Manager(s) and Address.

I. Background

In its continuing effort to improve its value-added services, the Postal Service will launch two new programs in 2012. The first will assist business mailers with tracking mail pieces sent to their customers. The tracking of these mail pieces will utilize the 11-digit ZIP Code and/or an Intelligent Mail Barcode. The second will strengthen the digital relationship with consumers and aid all customers with package tracking and visibility within the Postal Service network and through other carrier networks.

Additionally, in June, 2012, the Postal Service made additional management and organizational changes.

II. Rationale for Changes to USPS Privacy Act Systems of Records

The Postal Service is enhancing our customers' visibility of their mailings. The first program will automate the process to provide business mailers with mail piece induction information. The second program will integrate tracking information from multiple carriers.

Lastly, in regards to the system manager title update, there is a continuing need to reflect changes in the identity or title of responsible officials.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluation. The Postal Service does not expect this amended notice to have any adverse effect on individual privacy rights. The affected system is as follows:

USPS 820.200

SYSTEM NAME:

Mail Management and Tracking Activity.

Accordingly, for the reasons stated, the Postal Service proposes changes in the existing system of records as follows:

USPS 820.200

SYSTEM NAME:

Mail Management and Tracking Activity.

CATEGORIES OF RECORDS IN THE SYSTEM:

[CHANGE TO READ]

1. Customer information: Customer or contact name, mail and email address(es), title or role, phone number(s), and cellphone carrier.

* * * * *

[CHANGE TO READ]

5. Customer preference data: Hold mail begin and end date, redelivery date, delivery options, shipping and pickup preferences, drop ship codes, comments and instructions, mailing frequency, preferred delivery dates, and preferred means of contact.

* * * * *

[ADD NEW TEXT]

7. Mail Images: Images of mail pieces captured during normal mail processing operations.

PURPOSE(S):

* * * * *

[CHANGE TO READ]

3. To provide customers with information about the status of mailings within the USPS network or other carrier networks.

[ADD NEW TEXT]

4. To provide business mailers with information about the status of mailings within the USPS mail processing network.

[RENUMBER REMAINING TEXT]

RETRIEVABILITY:

[CHANGE TO READ]

By customer name, customer ID(s), logon ID, mailing address(es), 11-digit ZIP Code, or any Intelligent Mail Barcode.

RETENTION AND DISPOSAL:

* * * * *

[ADD NEW TEXT]

5. Mailpiece images will be retained up to 3 days.

* * * * *

[RENUMBER REMAING TEXT AND ADD NEW TEXT]

7. USPS and other carrier network tracking records are retained for up to 30 days for mail and up to 90 days for packages and special services.

* * * * *

SYSTEM MANAGER(S) AND ADDRESS:

[ADD NEW TEXT]

President, Digital Solutions, United States Postal Service, 475 L'Enfant Plaza SW., Washington, DC 20260.

Chief Information Officer, United States Postal Service, 475 L'Enfant Plaza SW., Washington, DC 20260.

[CHANGE TO READ]

Chief Marketing/Sales Officer and Executive Vice President, United States Postal Service, 475 L'Enfant Plaza SW., Washington, DC 20260.

* * * * *

Stanley F. Mires,
Attorney, Legal Policy & Legislative Advice.

[FR Doc. 2012-18957 Filed 8-2-12; 8:45 am]

BILLING CODE 7710-12-P